DEPARTMENT OF THE INTERIOR

Bureau of Land Management

[BLM_CO_FRN_MO4500170740]

Colorado's Rocky Mountain Resource Advisory Council To Meet in June

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Rocky Mountain Resource Advisory Council (RAC) is announcing its 2023 summer meeting.

DATES: The Rocky Mountain RAC will meet in June on the following days:

• The RAC will meet in-person on June 22, 2023, from 8 a.m. to 4 p.m. Mountain Time (MT).

• An optional field tour for RAC members will be conducted on June 23, 2023, from 9 a.m. to noon MT.

All meetings and field tours are open to the public.

ADDRESSES: The June 22, 2023, meeting will be held at the BLM's San Luis Valley Field Office, 1313 E. Highway 160, Monte Vista, CO 81144. A virtual option will be offered through the Zoom platform. Virtual meeting registration and field tour participation information will be available on the RAC's web page 30 days in advance of the meetings at https://www.blm.gov/get-involved/resource-advisory-council/near-you/colorado/rocky-mountain-rac.

The June 23, 2023, field tour will commence at 9 a.m. and attendees should meet at the San Luis Valley Field Office, 1313 E Highway 160, Monte Vista, CO 81144. Attendees will then travel to grazing allotments in the San Luis Valley.

FOR FURTHER INFORMATION CONTACT: Levi Spellman, Public Affairs Specialist; BLM Rocky Mountain District Office, 3028 E Main St., Cañon City, CO, 81212; telephone: (719) 269-8553; email: lspellman@blm.gov. Individuals in the United States who are deaf, deafblind, hard of hearing, or have a speech disability may dial 711 (TTY, TDD, or TeleBraille) to access telecommunications relay services for contacting Melanie Hornsby. Individuals outside the United States should use the relay services offered within their country to make international calls to the point-of-contact in the United States.

SUPPLEMENTARY INFORMATION: The 15-member Rocky Mountain RAC advises the Secretary of the Interior, through the BLM, on a variety of public land issues in the Rocky Mountain District of Colorado, including the Royal Gorge Field Office, San Luis Valley Field Office, and Browns Canyon National Monument. Agenda topics for the June 22, 2023, meeting will include an overview of the roles and responsibilities of RAC members, administrative housekeeping, field and district manager updates, discussions on the Browns Canyon National Monument Ethnographic Study, the Penrose Commons Recreation Area Management Plan, the Public Lands Rule, solar energy development, and grazing issues within the San Luis Valley Field Office, as well as topics raised during discussion.

A public comment period is scheduled for 3 p.m. on June 22, 2023. Comments may be limited due to time constraints. Written comments submitted at least 7 days prior to the meeting will be provided to the RAC in advance for consideration. Comments may be submitted to the individual listed in the FOR FURTHER INFORMATION CONTACT section of this notice. Please include “RAC Comment” in your submission. Before including your address, phone number, email address, or other personal identifying information in your comment, please be aware that your entire comment—including your personally identifying information—may be made publicly available at any time. While individuals may request their personally identifying information to be withheld from public view, we cannot guarantee that we will be able to do so.

Members of the public are welcome on field tours but must provide their own transportation and meals. Individuals who plan to attend must RSVP to the BLM Rocky Mountain District Office at least 2 weeks in advance of the field tours to the contact listed in the FOR FURTHER INFORMATION CONTACT section of this notice.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Additional information regarding the meetings will be available on the RAC's web page at https://www.blm.gov/get-involved/resource-advisory-council/near-you/colorado/rocky-mountain-rac.

Detailed minutes for the RAC meetings will be maintained in the Rocky Mountain District Office and will be available for public inspection and reproduction during regular business hours within 30 days following the meeting. Previous minutes and agendas are also available on the RAC's web page.

(Authority: 43 CFR 1784.4-2.)

Douglas J. Vilsack,
BLM Colorado State Director.

[FR Doc. 2023-10546 Filed 5-16-23; 8:45 am]

BILLING CODE 4331-16-P